DEPARTMENT OF TRANSPORTATION

Pipeline and Hazardous Materials Safety Administration

[Docket No.: PHMSA-2024-0161; Notice No. 2024-14]

Hazardous Materials: Notice of Hazardous Materials Transportation Seminar

AGENCY: Pipeline and Hazardous Materials Safety Administration (PHMSA), DOT.

ACTION: Notice of public seminar.

SUMMARY: The Pipeline and Hazardous Materials Safety Administration's (PHMSA) Office of Hazardous Materials Safety (OHMS) will hold a free Hazardous Materials Transportation Seminar from October 30, 2024, through November 1, 2024, at the Hyatt Regency Indianapolis, One South Capital Avenue, Indianapolis, IN 46204. The seminar will be a three-day event with a broad focus on outreach and engagement with PHMSA's stakeholders. Targeted stakeholders include shippers, transporters, and small business particularly in underserved communities, and emergency responders.

DATES: October 30, 2024, through November 1, 2024.

ADDRESSES: Hyatt Regency Indianapolis, One South Capital Avenue, Indianapolis, IN 46204. PHMSA requests that attendees register for the seminar at: opsweb.phmsa.dot.gov/hm_seminars/default_workshop.asp.

FOR FURTHER INFORMATION CONTACT: Marc Nichols or Clayton Hatfield, Hazardous Materials Field Operations, Pipeline and Hazardous Materials Safety Administration, U.S. Department of Transportation, Washington, DC 20590. Telephone: (202) 360-0664, Email: Marc.Nichols@dot.gov or Clayton.Hatfield@dot.gov.

SUPPLEMENTARY INFORMATION: OHMS's goal is to share information about PHMSA as a safety agency, its grant program, the Emergency Response Guidebook (ERG), and equip small businesses with tools for success. We will also give attendees an opportunity to learn from experts about the requirements for the safe transportation of hazardous materials and hear from the agency's top leaders and subject matter experts. Additionally, the seminar will further provide an open platform for the exchange of ideas and efforts toward the safe transportation of hazardous materials. Lastly, the seminar is an opportunity to discuss with stakeholders any potential hazardous materials safety concerns that OHMS should consider in developing future training opportunities or other safety initiatives.

PHMSA requests that attendees register for the seminar at: opsweb.phmsa.dot.gov/hm_seminars/default_workshop.asp.

The schedule of sessions is as follows:

Wednesday, October 30th

PHMSA: Who We Are and How We Can Help
Time (EST) | Regency ballroom
1:00 p.m.-1:45 p.m | Welcoming Remarks, PHMSA Overview, Grants and ERG 2024.
1:45 p.m.-2:00 p.m | Break.
2:00 p.m.-2:45 p.m | Obtaining Government Contracts.
2:45 p.m.-3:00 p.m | Break.
3:00 p.m.-4:00 p.m | Small Business Development.
4:00 p.m | End of Day.

Thursday, October 31st & Friday, November 1st

HAZMAT Safety Sessions
Time (EST) | Regency ballroom
9:00 a.m.-9:45 a.m | PHMSA and TRANSCAER: Welcoming Remarks.
9:45 a.m.-10:00 a.m | Break.

Time | Regency ballroom | Concept room | Vision room | Studio room | Theory room
10:00 a.m.-10:45 a.m. | Rail Car Safety | Electric Bus Fire and Sodium Hydroxide Tank Explosion Lessons Learned | Hazardous Materials Incident Reporting | “Who is PHMSA?” | Shipping Papers and Emergency Response.
10:45 a.m.-11:00 a.m. | Break
11:00 a.m.-11:45 a.m. | Highway Cargo Tank Safety | Accident Investigation Team. | 2024 Emergency Response Guidebook | Lithium Battery Safety | Placarding Requirements.
11:45 a.m.-1:00 p.m. | Lunch
1:00 p.m.-1:45 p.m. | TRANSCAER: Emergency Response | Rail Car Safety | Hazardous Materials Incident Reporting | Research and Development for Lithium Batteries | Training and Security Requirements.
1:45 p.m.-2:00 p.m. | Break
2:00 p.m.-2:45 p.m. | Lithium Battery Safety | Highway Cargo Tank Safety | Obtaining Government Contracts | Accident Investigation Team | Marking and Labeling Requirements.
2:45 p.m.-3:00 p.m. | Break
3:00 p.m.-3:45 p.m. | 2024 Emergency Response Guidebook | Electric Bus Fire and Sodium Hydroxide Tank Explosion Lessons Learned | PHMSA Grant Programs. | Research and Development for Lithium Batteries | Package Selection and Labeling.
3:45 p.m. | End of Day

Signed in Washington, DC, on September 26, 2024.
William S. Schoonover,
Associate Administrator for Hazardous Materials Safety, Pipeline and Hazardous Materials Safety Administration.

[FR Doc. 2024-22566 Filed 10-1-24; 8:45 am]

BILLING CODE 4910-60-P